DEPARTMENT OF COMMERCE

National Oceanic and Atmospheric Administration

50 CFR Part 679

[Docket No. 070213032-7032-01]

RIN 0648-XE84

Fisheries of the Exclusive Economic Zone Off Alaska; Inseason Adjustment to the 2008 Gulf of Alaska Pollock Total Allowable Catch Amount

AGENCY: National Marine Fisheries Service (NMFS), National Oceanic and Atmospheric Administration (NOAA), Commerce.

ACTION: Temporary rule; inseason adjustment; request for comments.

SUMMARY: NMFS is adjusting the 2008 total allowable catch (TAC) amounts for pollock in the Gulf of Alaska (GOA). This action is necessary because NMFS has determined these TACs are incorrectly specified. This action will ensure the GOA pollock TACs do not exceed the appropriate amount based on the best available scientific information for pollock in the GOA. This action is consistent with the goals and objectives of the Fishery Management Plan for Groundfish of the Gulf of Alaska Area (FMP).

DATES: Effective 1200 hrs, Alaska local time (A.l.t.), January 7, 2008, until the effective date of the 2008 and 2009 final harvest specifications for GOA groundfish, unless otherwise modified or superceded through publication of a notification in the Federal Register.

Comments must be received at the following address no later than 4:30 p.m., A.l.t., January 22, 2008.

ADDRESSES: You may submit comments, identified by RIN 0648-XE84, by any one of the following methods:

• Mail to: P.O. Box 21668, Juneau, AK 99802

• Hand delivery to the Federal Building, 709 West 9th Street, Room 420A, Juneau, Alaska

• Electronic Submissions: Submit all electronic public comments via the Federal eRulemaking Portal http://www.regulations.gov

• FAX to 907-586-7557, Attn: Ellen Sebastian

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Jennifer Hogan, 907-586-7228.

SUPPLEMENTARY INFORMATION: NMFS manages the groundfish fishery in the Gulf of Alaska (GOA) according to the FMP prepared by the North Pacific Fishery Management Council (Council) under authority of the Magnuson-Stevens Fishery Conservation and Management Act. Regulations governing fishing by U.S. vessels in accordance with the FMP appear at subpart H of 50 CFR part 600 and 50 CFR part 679.

The 2008 TAC of pollock in the GOA was set at 81,467 metric tons (mt) by the 2007 and 2008 harvest specification for groundfish in the GOA (72 FR 9676, March 5, 2007). The 2008 pollock TAC in Statistical Area 610 in the GOA was set at 30,308 mt. The 2008 pollock TAC in Statistical Area 620 in the GOA was set at 25,313 mt. The 2008 pollock TAC in Statistical Area 630 in the GOA was set at 17,995 mt. The 2008 pollock TAC in the West Yakutat District was set at 1,694 mt.

In December 2007, the Council recommended a 2008 pollock TAC of 60,180 mt for the GOA. The Council recommended the following apportionments by area for the 2008 pollock TAC: 17,602 mt for Statistical Area 610, 19,181 mt for Statistical Area 620, 13,640 mt for Statistical Area 630, and 1,517 mt for the West Yakutat District. These amounts are less than the pollock TACs as established by the 2007 and 2008 harvest specification for groundfish in the GOA (72 FR 9676, March 5, 2007). The TACs recommended by the Council are based on the Stock Assessment and Fishery Evaluation report (SAFE), dated November 2007, which NMFS has determined is the best available scientific information for this fishery.

Steller sea lions occur in the same location as the pollock fishery and are listed as endangered under the Endangered Species Act (ESA). Pollock is a principal prey species for Steller sea lions in the GOA. The seasonal apportionment of pollock harvest is necessary to ensure the groundfish fisheries are not likely to cause jeopardy of extinction or adverse modification of critical habitat for Steller sea lions. The regulations at § 679.20(a)(5)(iv) specifies how the pollock TAC shall be apportioned.

In accordance with § 679.25(a)(2)(i)(B), the Administrator, Alaska Region, NMFS (Regional Administrator), has determined that, based on the November 2007 SAFE report for this fishery, the current GOA pollock TACs are incorrectly specified. Consequently, the Regional Administrator is adjusting the 2008 pollock TAC to 60,180 mt in the GOA. The Regional Administrator is also adjusting the 2008 pollock TAC to 17,602 mt in Statistical Area 610, to 19,181 mt in Statistical Area 620, to 13,640 mt in Statistical Area 630, and to 1,517 mt in the West Yakutat District.

Pursuant to § 679.20(a)(5)(iv), Tables 2, 6, 14, and 17 of the 2007 and 2008 final harvest specifications for groundfish in the GOA (72 FR 9676, March 5, 2007) are revised for the 2008 pollock TACs consistent with this adjustment. Pursuant to § 679.92(b), Table 17 of the 2008 final harvest specifications for groundfish in the GOA (72 FR 71802, December 19, 2007) is revised for the 2008 annual pollock TACs in the GOA consistent with this adjustment.

BILLING CODE 3510-22-S

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocations for pollock based on the best scientific information available. NMFS was unable to publish a notice providing time for public comment because the most recent, relevant data only became available as of December 13, 2007, and additional time for prior public comment would result in conservation concerns for the ESA-listed Stellersea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 22, 2008.

This action is required by § 679.22 and § 679.25 and is exempt from review under Executive Order 12866.

Authority: 16 U.S.C. 1801 et seq.

Dated: January 4, 2008.
Alan D. Risenhoover,
Director, Office of Sustainable Fisheries, National Marine Fisheries Service.

[FR Doc. 08-63 Filed 1-7-08; 2:11 pm]

BILLING CODE 3510-22-C